DEPARTMENT OF HEALTH AND HUMAN SERVICES

Solicitation of Nomination for Appointment to the Advisory Committee on Minority Health; Correction

AGENCY: Department of Health and Human Services, Office of the Secretary, Office of Public Health and Science, Office of Minority Health.

ACTION: Notice: Correction.

SUMMARY: The Department of Health and Human Services published a document in the Federal Register on Thursday, July 22, 2010 soliciting nominations for appointment to the Advisory Committee on Minority Health. Within the FOR FURTHER INFORMATION CONTACT section, there was a typographical error in the Web site address managed by the Office of Minority Health.

FOR FURTHER INFORMATION CONTACT: Ms. Monica Baltimore, (240) 453-2882.

Correction

In the Federal Register of July 22, 2010, Vol. 75, No. 140, page 42754, in the second column, correct the FOR FURTHER INFORMATION CONTACT section to read: Ms. Monica Baltimore, Executive Director, Advisory Committee on Minority Health, Office of Minority Health, Office of Public Health and Science, Department of Health and Human Services, 1101 Wootton Parkway, Suite 600, Rockville, MD 20852; Telephone: (240) 453-2882. A copy of the Committee charter and list of the current membership can be obtained by contacting Ms. Baltimore or by accessing the Web site managed by OMH at http://www.minorityhealth.hhs.gov/acmh.

Dated: July 28, 2010.
Garth N. Graham,
Deputy Assistant Secretary for Minority Health.

[FR Doc. 2010-19409 Filed 8-5-10; 8:45 am]

BILLING CODE 4150-29-P